ENVIRONMENTAL PROTECTION AGENCY

[FRL-8712-3]

Notice of Availability of Guidelines for the Award of Alaska Rural and Native Villages Program Grant Authorized by the Clean Water Act and the Consolidated Appropriations Act, 2008

AGENCY: Environmental Protection Agency (EPA).

ACTION: Notice of availability.

SUMMARY: This notice announces the availability of a memorandum entitled “Award of Alaska Rural and Native Villages Program Grant Authorized by the Clean Water Act and the EPA Section of the Consolidated Appropriations Act, 2008” and the accompanying grant guidelines. These documents describe how EPA will award and administer the 2008 Alaska Rural and Native Villages Program Grant as authorized by Section 113a of the Clean Water Act (33 U.S.C. 1263a) and the Agency's FY 2008 Consolidated Appropriations Act (Pub. L. 110-161). The Consolidated Appropriations Act, 2008, provides budget authority for funding the Alaska Rural and Native Villages Program that assists communities with the rehabilitation or construction of drinking water and wastewater systems and also training and technical assistance in the operations and maintenance of these systems. The grant guidelines will not be reissued annually. The grant recipient, the State of Alaska, will receive a copy of this notice, the memorandum, and a copy of the grant guidelines from EPA.

FOR FURTHER INFORMATION CONTACT: Matthew Richardson, Environmental Protection Specialist, Municipal Support Division, Office of Wastewater Management (4204M), Office of Water, Environmental Protection Agency, 1200 Pennsylvania Ave., NW., Washington, DC 20460; telephone number: (202) 564-2947; fax number: (202) 501-2396; e-mail address: Richardson.Matthew@epa.gov.

SUPPLEMENTARY INFORMATION:

I. General Information

A. Does This Action Apply to Me?

This action applies to State Agencies, nonprofit institutions, international organizations, and Alaska rural and native villages which are eligible to receive grants from funds included in EPA's State and Tribal Assistance Grants account pursuant to the Consolidated Appropriations Act, 2008 (Pub. L. 110-161) and the Department of the Interior, Environment, and Related Agencies Appropriations Act, 2008.

B. How Can I Get Copies of This Document and Other Related Information?

You may access this Federal Register document electronically through the EPA Internet under the Federal Register listings at http://www.epa.gov/fedrgstr/. The associated grant guideline documents may be viewed and downloaded from EPA's Web site at http://www.epa.gov/owm/mab/indian/anvrs/guidelines.htm.

Dated: September 2, 2008.
Judy Davis,
Deputy Director, Office of Wastewater Management.

[FR Doc. E8-20731 Filed 9-5-08; 8:45 am]

BILLING CODE 6560-50-P